DEPARTMENT OF THE INTERIOR

National Park Service

[NPS-PWR-PWRO-10629; PX.P0131800B.00.1]

Draft Environmental Impact Statement for Tuolumne Wild and Scenic River Comprehensive Management Plan, Yosemite National Park, Madera, Mariposa, Mono and Tuolumne Counties, California

AGENCY: National Park Service, Interior.

ACTION: Notice of availability.

SUMMARY: Pursuant to § 102(2) (C) of the National Environmental Policy Act of 1969 (Pub. L. 91-190, as amended), and the Council on Environmental Quality Regulations (40 CFR part 1500-1508), the National Park Service has prepared a Draft Environmental Impact Statement (DEIS) for the proposed Tuolumne Wild and Scenic River Comprehensive Management Plan (TRPCMP). The TRPCMP/DEIS addresses requirements of the Wild and Scenic Rivers Act (Pub. L. 90-542, as amended) (WSRA), and will provide long-term guidance for management of the 54 miles of the Tuolumne River that flows through Yosemite National Park. The DEIS evaluates potential environmental consequences of implementing a range of alternatives, including a no-action (continue with current management) alternative and five action alternatives. Both the agency-preferred and environmentally preferred alternatives are identified.

The purpose of the TRPCMP is to guide the park in protecting the river's free-flowing character and the values that make it worthy of designation by (1) reviewing and updating river corridor boundaries and segment classifications, (2) prescribing a process for the protection of the river's free-flowing condition, (3) identifying and documenting the condition of the river's outstandingly remarkable values, (4) establishing management objectives for river values and a monitoring program for ensuring the objectives are met, (5) identifying management actions needed to protect and enhance river values, and (6) defining visitor use and user capacity for the river corridor. Portions of the 1980 Yosemite General Management Plan (GMP) addressing management inside the Tuolumne Wild and Scenic River corridor also will be updated; specific GMP amendments are outlined in the DEIS.

Proposal and Alternatives: Based on a thorough examination of the river's baseline conditions, the TRPCMP/DEIS presents a multi-faceted approach to river management and stewardship. Because of the WSRA mandate to “protect and enhance” river values, most of the plan's contents are common to all the action alternatives, including (1) all WSRA management elements (boundaries, classifications, § 7 determination process), (2) an ecological restoration program and other management actions, (3) a monitoring program, and (3) a user capacity management program. As discussed in detail in the DEIS, Alternative 5 is deemed to be the environmentally preferred course of action.

Since the conservation planning and environmental impact analysis process began in 2005, the TRPCMP/DEIS has been methodically developed by park subject-matter experts, with attention to information provided by culturally-associated American Indian tribes, gateway communities, nonprofit organizations, and interested members of the public. Throughout the early conservation planning and environmental impact analysis effort, information was sought at over 127 public meetings, workshops, and presentations. At these events, the public was invited to share ideas that could be used in the development of a range of alternatives that would achieve NPS goals, while ensuring accessibility, public safety, resource protection, and protection and enhancement of river values.

As noted above, a no-action alternative and five action alternatives for managing the Tuolumne Wild and Scenic River are identified and analyzed. The five action alternatives represent the primary themes expressed during public scoping. Potential impacts are analyzed and appropriate mitigation measures are assessed for each alternative. Per WSRA direction, all of the action alternatives would protect and enhance the values for which the Tuolumne was designated, including its free-flowing condition, excellent water quality, and outstandingly remarkable values. In addition, all action alternatives would preserve and sustain wilderness character, including natural ecosystem function and opportunities for primitive recreation in the more than 90 percent of the river corridor that is classified wild per the WSRA (some portions are also located in designated wilderness). Differences among the alternatives revolve primarily around a range of desired visitor experiences, levels of facilities needed to protect and enhance river values in Tuolumne Meadows and Glen Aulin, and use levels throughout the river corridor. The scenic segment below O'Shaughnessy Dam and the Tioga Road corridor east of Tuolumne Meadows would be managed the same under all the action alternatives in a manner that is protective of river values.

The guidance for those segments of the river classified as wild (which are also part of congressionally designated wilderness) are similar under all the alternatives, although differences in visitor use management are identified and assessed. All alternatives accommodate traditional cultural practices by American Indian tribes. Numeric user capacities differ among the alternatives, based on the types of visitor experiences, levels of facilities needed to protect river values, and actions taken to achieve the various objectives. Day and overnight capacities for the entire river corridor—and the actions required to manage to proposed capacities—are considered for all alternatives.

No Action Alternative. Continuing current management and trends would result in additional localized impacts associated with roadside parking in Tuolumne Meadows and facilities located in sensitive riverine locations.

Common to Action Alternatives. In response to public comments and in keeping with findings related to baseline conditions, all action alternatives call for an ecological restoration program, elimination of roadside parking in Tuolumne Meadows with slight expansion of existing parking areas, elimination of social trails in meadows and riparian areas, removal of concessioner housing from sensitive areas, relocation of the Cathedral Lakes trailhead to the current visitor center location, retention of the Tuolumne Meadows campground, and either no expansion or a reduction of overnight lodging.

Alternative 1. Alternative 1 responds to those members of the public who advocated emphasis on primitive and self-reliant experiences in the river corridor while providing a wilderness staging area and a focal point for High Sierra interpretation and education at Tuolumne Meadows. Subalpine meadow and riparian areas would be protected from visitor-related impacts by restoring informal trails, mitigating the hydrologic impacts caused by historic trail segments, and eliminating all facilities except trails and roads from meadow and riparian areas. Most amenities and commercial services would be discontinued at Tuolumne Meadows, including the store and grill, gas station, Tuolumne Meadows Lodge, and trail rides. The Glen Aulin High Sierra Camp would be removed and the area restored to natural conditions. Overall, use levels in the river corridor would be the lowest in the range of alternatives considered.

Alternative 2. Alternative 2 responds to those members of the public who voiced a desire for a greater diversity of day use opportunities (including limited kayaking, by permit) and a modest increase in campground capacity, while retaining the rustic lodges at Tuolumne Meadows and Glen Aulin. This alternative would facilitate resource enjoyment and stewardship by a broad spectrum of visitors, including people discovering the area for the first time, by encouraging short interpretive walks and picnicking. To facilitate these connections, a picnic and parking area would be located across from the Parsons Lodge trailhead on Tioga Road. The visitor center and other core visitor services would be co-located at the site of the existing Tuolumne Meadows store. Overall, use levels in the river corridor would be the highest in the range of alternatives considered, and river values would be protected by directing visitors to those areas most able to withstand use.

Alternative 3. Alternative 3 responds to those members of the public who desired a Tuolumne experience largely the same as today, while facilitating the changes needed to protect and enhance river values. Alternative 3 would emphasize the historic character of Tuolumne, while providing opportunities for visitors to connect with the river through its historic landscape character and traditional, unconfined experiences. Wilderness-oriented recreational opportunities would be encouraged and river-related systems would be sustained by natural ecological processes. Most facilities at Tuolumne Meadows would remain in their dispersed locations, however some may be relocated to protect sensitive areas. Glen Aulin High Sierra Camp would remain at a slightly reduced capacity. Overall, use levels would fall within the middle of the range of alternatives considered.

Alternative 4. Alternative 4 responds to those members of the public who wanted visitor activities and amenities to be secondary to protecting and enhancing the integrity and connectivity of river-related ecological communities, particularly at Tuolumne Meadows. The rustic lodge at Tuolumne Meadows would be reduced to half its current capacity and other commercial services would be eliminated, including the gas station and commercial day rides. Facilities and like functions at Tuolumne Meadows would be consolidated and visitor experiences would be facilitated in a manner that connects people with the river and emphasizes the importance of protecting meadow and riparian ecosystems. Capacity at the Glen Aulin High Sierra Camp would be reduced. Overall, use levels would fall within the middle of the range of alternatives considered, and management of visitor use would be intensive, including possible closures to facilitate ecological recovery.

Alternative 5. Alternative 5 (agency-preferred and environmentally preferred) would combine elements from alternatives 2, 3 and 4, to balance greater protection of ecological communities while allowing for traditional wilderness-oriented visitor experiences. While most visitor services would remain, the gas station and concessioner trail rides would be eliminated. A small visitor contact station, picnic and parking area would be located across from the Parsons Lodge trailhead on Tioga Road. Glen Aulin High Sierra Camp would be reduced to nearly half its current capacity. Overall, use levels would fall within the middle of the range of alternatives considered, and management of visitor use would be intensive, including possible closures to facilitate ecological recovery.

Since some portions of the DEIS planning area have historic structures or are located in designated wilderness, appendices are included which address (1) role of 1999 and 2008 programmatic agreements between Yosemite NP and the State Historic Preservation Office in protecting and managing historic structures, and (2) the extent to which commercial services are necessary in wilderness.

Public Involvement. On July 10, 2006, the Notice of Intent to prepare an EIS was published in the Federal Register, formally initiating a 60-day public scoping period. At that time a letter from the Superintendent was sent to over 6,000 interested members of the public on the park's Planning Mailing list, soliciting ideas, issues, and concerns relating to the scope of this planning effort. Press releases were sent to local and regional newspapers announcing details of the 60-day public scoping period, including information about public meetings. In July and August 2006, a series of thirteen public scoping meetings were held; in addition, an on-site visit was hosted in Tuolumne Meadows on August 29, 2006. In addition to local and regional press media, public meetings were publicized on the park's Web site, through emailed notices on the park's electronic newsletter, and on various state-wide online bulletin boards. The scoping period was extended for an additional two weeks in deference to public requests.

Overall there were 457 public responses (including letters, faxes, emails, comment forms, and public meeting flip-chart notes), and over 4,000 individual comments. From 2006-2010 over 127 public meetings, presentations, workshops, field visits, and open houses were conducted in support of preparation of the Tuolumne River Plan. These included all-tribes meetings, public work sessions to parallel planning team work sessions (known as “Planner-for-a-Day” workshops), socioeconomic workshops held in gateway communities, open houses and other public forums, meetings with park staff, and presentations to other land management agencies and stakeholder groups. The park's Web site served as a central repository for not only information about the plan's status, but various products for public comment—including two separate workbooks devoted to release of preliminary concepts and early alternatives.

How to Comment: All comments must be transmitted or postmarked not later than 60 days from the date the U. S. Environmental Protection Agency publishes their notice of filing of the DEIS in the Federal Register. Immediately upon confirmation of this date it will be announced via local and regional news media, through direct mailings, and posted on the project Web sites. Written comments should be mailed to: Superintendent, Yosemite National Park, Attn: Tuolumne River Plan DEIS, P.O. Box 577, Yosemite, California 95389. If preferred, comments also may be transmitted electronically through the http://parkplanning.nps.gov/yose_trp Web site.

Before including your address, phone number, email address, or other personal identifying information in your comment, you should be aware that your entire comment—including your personal identifying information—may be made publicly available at any time. While you can ask us in your comment to withhold your personal identifying information from public review, we cannot guarantee that we will be able to do so.

During the public review period public meetings will be hosted in Yosemite gateway communities, as well as in Yosemite Valley and Tuolumne Meadows; Web-based meetings will also take place. Public site visits may be offered during the public review period, depending upon weather conditions. All meeting and site visit locations and dates will be announced similarly as noted above for the comment due date, and will be included in the Yosemite electronic newsletter and posted on the Yosemite National Park Web site http://www.nps.gov/yose/parkmgmt/trp.htm.

Limited printed and CD copies of the TRPCMP/DEIS will be available, and may be requested by email (yose_planning@nps.gov) or telephone at (209) 379-1110. The document will be sent directly to congressional delegations, state and local elected officials, federal and state agencies, tribes, organizations, local businesses, public libraries, and the news media. Printed copies can be viewed at local and regional libraries (i.e., El Portal, Mariposa, Oakhurst, Sonora, San Francisco, and Los Angeles). Electronic versions will be available online at http://parkplanning.nps.gov/yose_trp, or may be accessed through the Yosemite National Park Web site http://www.nps.gov/yose/parkmgmt/trp.htm.

Decision Process: All comments received on the TRPCMP/DEIS will be duly considered in preparing the Final EIS. The Final EIS is expected to be available in early 2013; availability of the document will be announced in a manner similar to that used for the DEIS, including publication of a notice of availability in the Federal Register. A Record of Decision would be prepared not sooner than 30 days after release of the Final EIS. Because this is a delegated EIS, the official responsible for approving the final plan is the Regional Director, Pacific West Region, National Park Service; subsequently the official responsible for implementation of the approved Tuolumne Wild and Scenic River Comprehensive Management Plan will be the Superintendent, Yosemite National Park.

Dated: November 26, 2012.
George J. Turnbull,
Acting Regional Director, Pacific West Region.

[FR Doc. 2013-01464 Filed 1-24-13; 8:45 am]

BILLING CODE 4312-FY-P